ENVIRONMENTAL PROTECTION AGENCY

[FRL-9235-9]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2374.02; Corporate ID Reporting Rule; 40 CFR part 98; was approved on 11/01/2010; OMB Number 2060-0646; expires on 11/30/2013; Approved without change.

EPA ICR Number 1135.10; NSPS for Magnetic Tape Coating Facilities; 40 CFR part 60, subparts A and SSS; was approved on 11/09/2010; OMB Number 2060-0171; expires on 11/30/2013; Approved without change.

EPA ICR Number 1975.08; NESHAP for Stationary Reciprocating Internal Combustion Engines; 40 CFR part 63, subparts A and ZZZZ; was approved on 11/12/2010; OMB Number 2060-0548; expires on 11/30/2013; Approved without change.

Comment Filed

EPA ICR Number 2392.01; Fuel Economy Labeling of Motor Vehicles (Proposed Rule); in 40 CFR parts 85, 86 and 600; OMB filed comment on 11/12/2010.

EPA ICR Number 1684.15; Emissions Certification, Compliance and In-use Testing Requirements for On-highway Heavy Duty Engines and Vehicles Equipped with On-Board Diagnostics (PR for Alt Fuel Conversion of Heavy-duty Engines); in 40 CFR part 1042, subparts C, D, G and H; OMB filed comment on 11/12/2010.

EPA ICR Number 1884.05; Addendum to Partial Update of the TSCA Section 8(b) Inventory Data Base, Production and Site Reports; in 40 CFR parts 710 and 711; OMB filed comment on 11/12/2010.

Dated: December 1, 2010.
John Moses,
Director, Collections Strategies Division.

[FR Doc. 2010-30629 Filed 12-6-10; 8:45 am]

BILLING CODE 6560-50-P